DEPARTMENT OF THE INTERIOR

Bureau of Land Management

[ID-310-1430-EU; IDI-34916]

Notice of Realty Action: (Non-Competitive) Direct Sale of Public Lands, Bonneville County, ID

AGENCY: Bureau of Land Management, Interior.

ACTION: Notice of Realty Action.

SUMMARY: The following described 1.25-acre public land parcel near Swan Valley, Bonneville County, Idaho, has been examined and found suitable for title transfer by (non-competitive) direct sale to Dale E. McDowell, Louise J. Prudhomme and George McDowell reserving a conservation easement to the United States. The sale will be conducted under the authority of section 203(f)(2) of the Federal Land Policy and Management Act of 1976, as amended, 43 U.S.C. 1701 et. seq. (FLPMA) and CFR 2711.3-3(a), and will take place according to procedures governing direct sale of public land.

DATES: On or before December 1, 2007, interested parties may submit comments concerning the proposed sale to the BLM Upper Snake Field Office Manager at the below address. Only written comments will be accepted.

ADDRESSES: Address all written comments concerning this notice to the Upper Snake Field Office Manager, BLM Upper Snake Field Office, 1405 Hollipark Drive, Idaho Falls, Idaho 83401. Detailed information including but not limited to documentation relating to compliance with all applicable environmental and cultural resource laws is available for review at the BLM Upper Snake Field Office. Before including your address, phone number, e-mail address, or other personal identifying information in your comment, you should be aware that your entire comment—including your personal identifying information—may be made publicly available at any time. While you can ask us in your comment to withhold your personal information from public review, we cannot guarantee that we will be able to do so.

FOR FURTHER INFORMATION CONTACT: Jan Parmenter, Realty Specialist, at the above address, or call: (208) 524-7521.

SUPPLEMENTARY INFORMATION: The following described public land in Bonneville County, Idaho, will be examined for possible disposal by direct sale under sections 203 and 209 of the Federal Land Policy and Management Act of 1976, 43 U.S.C. 1713 and 1719. The BLM has identified the parcel as follows:

Boise Meridian, Idaho

T. 2 N., R.43 E.,

Sec. 17, N½NE¼NE¼SW¼NW¼.

The land described above contains approximately 1.25 acres. Upon publication of this notice in the Federal Register, the land described above will be segregated from appropriation under the public land laws, including the mining laws, except for the sale provisions of FLPMA. These lands are being offered for sale to the proponent at no less than the appraised fair market value (FMV) of $6,000.00, as determined by the authorized officer after appraisal.

An appraisal report has been prepared by a State certified appraiser for the purposes of establishing FMV. This parcel of land located near Swan Valley, Idaho, is being offered for sale through direct sale procedures. The land meets the criteria for direct sale, pursuant to 43 CFR 2711.3-3(a)(5), to resolve inadvertent unauthorized use and occupancy of the lands and pursuant to 43 CFR 2710.0-3(a)(3) which states, “Such tract, because of its location or other characteristics is difficult and uneconomic to manage as part of the public lands and is not suitable for management by another Federal department or agency.”

This 1.25-acre parcel is not required for any Federal purposes. It has been determined that this parcel is impractical to manage as part of the public lands. BLM has determined that resource values will not be adversely affected by title transfer of this 1.25-acre parcel to non-Federal ownership. Sale of the parcel conforms to criteria of the BLM Medicine Lodge Resource Management Plan (RMP) approved in April 1985. The patent, when issued, will contain the following reservations, covenants, terms and conditions:

1. The parcel will be conveyed with a reservation of a right-of-way to the United States for ditches and canals constructed by the authority of the United States under the Act of August 30, 1890 (43 U.S.C. 945).

2. The patentee, by accepting the patent, agrees to indemnify, defend, and hold the United States harmless from any costs, damages, claims, causes of action, penalties, fines, liabilities, and judgments of any kind arising from the past, present, or future acts or omissions of the grantor, its employees, agents, contractor, or lessees, or a third party arising out of, or in connection with, the grantor's use and/or occupancy of the deeded real property resulting in: Violations of Federal, State and local laws and regulations that are now, or in the future become, applicable to the real property: (1) Judgments, claims, or demands of any kind assessed against the United States; (2) costs, expenses, or damages of any kind incurred by the United States; (3) releases or threatened releases of solid or hazardous waste(s) and/or hazardous substance(s) as defined by Federal or State environmental laws, off, on, into, or under land, property, and other interests of the United States; (4) other activities by which solids or hazardous substances or wastes, as defined by Federal and State environmental laws are generated, released, stored, used, or otherwise disposed of on the deeded real property, and any cleanup response, remedial action, or other actions related in any manner to said solid or hazardous substances or wastes; or (5) natural resource damages as defined by Federal and State law. This covenant shall be construed as running with the deeded real property and may be enforced by the United States in a court of competent jurisdiction.

Pursuant to the requirements established by Section 120(h) of the Comprehensive Environmental Response, Compensation and Liability Act (CERCLA), 42 U.S.C. 9620(h), as amended by the Superfund Amendments and Reauthorization Act of 1988, 100 Stat. 1670, notice is hereby given that the above-described parcel has been examined and no evidence was found to indicate that any hazardous substances have been stored for one year or more, nor had any hazardous substances been disposed of or released on the subject property.

3. The patent shall reserve a conservation easement in perpetuity on the entire 1.25 acre parcel.

Upon publication of this notice in the Federal Register, the land described above will be segregated from appropriation under the public land laws, including the general mining laws. The segregation will end upon issuance of patent or other documents of conveyance for such lands, upon publication in the Federal Register of a termination of the segregation, or 270 days from the date of this publication, whichever occurs first, unless extended by the BLM State Director in accordance with 43 CFR 2711.2(a), prior to the termination date.

No warranty of any kind, expressed or implied, is given by the United States as to the title, the parcel's physical condition or potential uses. The conveyance will not be on a contingency basis. It is the buyer's responsibility to be aware of all applicable Federal, State, or local government laws, regulations, or policies that may affect the subject parcel or its future uses. It is also the buyer's responsibility to be aware of existing or prospective uses of nearby properties.

The land will not be offered for sale until at least 60 days after the date of publication of this notice in the Federal Register. In the event of a sale, the unreserved mineral interests will be conveyed simultaneously with the sale of the land. These unreserved mineral interests have been determined to have no known mineral value pursuant to 43 CFR 2720.2(a). Acceptance of the sale offer will constitute an application for conveyance of those unreserved mineral interests. The purchaser will be required to pay a $50.00 non-refundable filing fee for conveyance of the available mineral interests. The purchaser will have 30 days from date of receiving the sale offer to accept the offer and to submit a deposit of 20 percent of the purchase price, the $50.00 filing fee for conveyance of mineral interests, and for payment of publication costs. The purchaser must remit the remainder of the purchase price within 180 days from the date the sale offer is received. Payments must be by certified check, postal money order, bank draft, or cashier's check payable to the U.S. Department of the Interior—BLM. Failure to meet conditions established for this sale will void the sale and any monies received will be forfeited. Failure or refusal by Dale E. McDowell, Louise J. Prudhomme, and George McDowell to submit the required fair market appraisal amount within 180 days of the sale of the parcel will constitute a waiver of this preference consideration and this parcel may be offered for sale on a competitive or modified competitive basis.

(Authority: 43 CFR 2711.1-2)

Dated: September 24, 2007.
Wendy Reynolds,
Upper Snake Field Manager.

[FR Doc. E7-21312 Filed 10-29-07; 8:45 am]

BILLING CODE 4310-GG-P